DEPARTMENT OF THE INTERIOR

National Park Service

[NPS-PWRO-TUSK-23857; PPPWTUSK00, PPMPSPD1Z.YM0000]

Notice of Public Meeting: Tule Springs Fossil Beds National Monument Advisory Council

AGENCY: National Park Service, Interior.

ACTION: Meeting notice.

SUMMARY: The National Park Service is hereby giving notice of a meeting of the Tule Springs Fossil Beds National Monument Advisory Council.

DATES: The public meeting will be held on Monday, June 4, 2018, at 6:00 p.m. (Pacific).

ADDRESSES: The meeting will take place at the Federal Interagency Office Building, 4701 N. Torrey Pines Road, Las Vegas, Nevada 89130-2301.

FOR FURTHER INFORMATION CONTACT: Further information concerning the meeting may be obtained from Diane Keith, Superintendent, Tule Springs Fossil Beds National Monument, 601 Nevada Way, Boulder City, Nevada 89005, via telephone at (702) 515-5462, or email at tusk_information@nps.gov.

SUPPLEMENTARY INFORMATION: The Council was established pursuant to Section 3092(a)(6) of Public Law 113-291 and in accordance with the provisions of the Federal Advisory Management Act (5 U.S.C. Appendix 1-16). The purpose of the Council is to advise the Secretary of the Interior, or his designee, with respect to the preparation and implementation of the management plan.

The tentative agenda for the meeting is as follows:

1. Introduction of Designated Federal Officer (DFO) and Council Members

2. Request for Public Comments

3. Committee Roll

4. Approval of Agenda

5. Review and Approval of Minutes

6. Reports

a. Superintendent Report

b. Old Business

c. New Business

7. Public Comments Submitted

8. Adjourn

The meeting is open to the public. Interested persons may make oral/written presentations to the Council during the business meeting or file written statements. Such requests should be made to the Superintendent prior to the meeting. Before including your address, phone number, email address, or other personal identifying information in your comment, you should be aware that your entire comment—including your personal identifying information—may be made publicly available at any time. While you can ask us in your comment to withhold your personal identifying information from public review, we cannot guarantee that we will be able to do so.

Authority: Section 3092(a)(6) of Public Law 113-291; 5 U.S.C. Appendix 1-16.

Alma Ripps,
Chief, Office of Policy.

[FR Doc. 2018-09950 Filed 5-9-18; 8:45 am]

BILLING CODE 4312-52-P